DEPARTMENT OF HOUSING AND URBAN DEVELOPMENT

[Docket No. FR-5375-N-41]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable. For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, Attn: Jennifer Stomber, 2100 Second St., SW., Stop 7901, Washington, DC 20593-0001; (202) 475-5609; Energy: Mr. Mark Price, Department of Energy, Office of Engineering and Construction Management, 1000 Independence Ave., SW., Washington, DC 20585; (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW., Washington, DC 20240; (202) 208-5399; Navy: Mr. Albert Johnson, Director of Real Estate, Department of the Navy, Naval Facilities Engineering Command, Washington Navy Yard, 1330 Patterson Ave., SW., Suite 1000, Washington, DC 20374; (202) 685-9305; (These are not toll-free numbers).

Dated: October 14, 2010.
Mark R. Johnston,
Deputy Assistant Secretary for Special Needs.

TITLE V, FEDERAL SURPLUS PROPERTY PROGRAM FEDERAL REGISTER REPORT FOR 10/22/2010

Suitable/Available Properties

Building

Virginia

Tract 05-151, Qtrs. 11

National Park Service

Spotsylvania VA 22553

Landholding Agency: Interior

Property Number: 61201040001

Status: Excess

Comments: 1642 sq. ft., off-site use only

Land

Texas

FAA Outermarker—Houston

null

Spring TX 77373

Landholding Agency: GSA

Property Number: 54201040001

Status: Surplus

GSA Number: 7-U-TX-1110

Comments: 0.2459 acres, subject to restrictions/regulations regarding the Houston Intercontinental Airport, may not have access to a dedicated roadway

Unsuitable Properties

Building

Arizona

Bldg. 8

Stewart Mountain Dam

Salt River AZ 85215

Landholding Agency: Interior

Property Number: 61201040004

Status: Unutilized

Reasons: Secured Area

California

Bldgs. 40, 41

Lawrence Berkeley Natl Lab

Berkeley CA 94720

Landholding Agency: Energy

Property Number: 41201040001

Status: Excess

Reasons: Extensive deterioration

Bldgs. 505, 520, 521

Pinnacles Natl Monument

Paicines CA 95043

Landholding Agency: Interior

Property Number: 61201040002

Status: Excess

Reasons: Extensive deterioration

Bldg. 416

Naval Weapons Station

Seal Beach CA 90740

Landholding Agency: Navy

Property Number: 77201040001

Status: Unutilized

Reasons: Extensive deterioration, Secured Area, Within 2000 ft. of flammable or explosive material

Bldg. 130

Naval Base

San Diego CA

Landholding Agency: Navy

Property Number: 77201040002

Status: Excess

Reasons: Secured Area

Bldg. 271

Naval Base

San Diego CA

Landholding Agency: Navy

Property Number: 77201040003

Status: Excess

Reasons: Secured Area, Within 2000 ft. of flammable or explosive material

Hawaii

13 Bldgs.

Joint Base Pearl Harbor

Waianae HI 96792

Landholding Agency: Navy

Property Number: 77201040004

Status: Excess

Directions: 285A, 368, 388, 412, 416, 418, 422, 439, 443, 451, 490, 491, 548

Reasons: Extensive deterioration, Secured Area

3 Bldgs.

Joint Base Pearl Harbor

Waianae HI 96792

Landholding Agency: Navy

Property Number: 77201040005

Status: Excess

Directions: 5461, 5462, 5467

Reasons: Secured Area, Extensive deterioration

3 (PAR) Bldgs.

Coast Guard Base Support Unit

Honolulu HI

Landholding Agency: Coast Guard

Property Number: 88201040001

Status: Unutilized

Reasons: Secured Area, Extensive deterioration

Illinois

5 Bldgs.

Naval Station

Great Lakes IL 60088

Landholding Agency: Navy

Property Number: 77201040007

Status: Unutilized

Directions: 323, 430, 431, 432, 837

Reasons: Secured Area

New Mexico

Bldg. 15-0562

Los Alamos National Lab

Los Alamos NM 87545

Landholding Agency: Energy

Property Number: 41201040002

Status: Unutilized

Reasons: Extensive deterioration, Secured Area

Tennessee

37 Elkmont Bldgs.

Great Smoky Mountains

National Park

Sevier TN 37886

Landholding Agency: Interior

Property Number: 61201040003

Status: Unutilized

Reasons: Extensive deterioration

Land

Hawaii

Land/395 sq. ft.

Marine Corps Base

Bellows HI 96795

Landholding Agency: Navy

Property Number: 77201040006

Status: Underutilized

Reasons: Secured Area

[FR Doc. 2010-26293 Filed 10-21-10; 8:45 am]

BILLING CODE 4210-67-P